Title 3—

The President

Proclamation 8001 of April 13, 2006

Thomas Jefferson Day, 2006

By the President of the United States of America

A Proclamation

Today, we celebrate the birthday of Thomas Jefferson. Few individuals have shaped the course of human events as much as this proud son of Virginia. His achievements are extraordinary: Governor of Virginia, author of the Statute of Virginia for Religious Freedom, Secretary of State, third President of the United States, and founder of the University of Virginia. Thomas Jefferson was also a scholar, author, farmer, inventor, and architect. As President, Thomas Jefferson secured the purchase of the Louisiana Territory from France, which doubled the size of the United States and extended opportunity and prosperity to many more Americans.

Thomas Jefferson was an eloquent and powerful champion of liberty. He captured the American creed when he wrote in a private letter: “I have sworn upon the altar of God eternal hostility against every form of tyranny over the mind of man.” And in one of the most important public documents in history, Jefferson wrote these words: “We hold these truths to be self-evident, that all men are created equal, that they are endowed by their Creator with certain unalienable Rights, that among these are Life, Liberty and the pursuit of Happiness.” The Declaration of Independence has become a cornerstone for those who love freedom and justice.

More than eight decades later, Abraham Lincoln returned to the words and meaning of the Declaration of Independence. Lincoln knew that in the distant future people would look upon it and “take courage to renew the battle which their fathers began—so that truth, and justice, and mercy . . . might not be extinguished from the land.” A century after Lincoln, Martin Luther King, Jr., called the Declaration of Independence a “promissory note to which every American was to fall heir.”

The Declaration of Independence has become a standard by which other nations and peoples measure their progress in the effort to advance human freedom. Even nations that are not yet free pay homage to freedom, and it is seen as a universal human good.

Our Nation is vastly different than it was during the days of our founding—yet our commitment to America's founding truths remains strong and steady. Our duty is to continue to fulfill the promise of Thomas Jefferson's words and vision of a better life for all people. Meeting that responsibility is the best way we can honor the memory of the man who was an architect of the freest Nation on Earth.

NOW, THEREFORE, I, GEORGE W. BUSH, President of the United States of America, by virtue of the authority vested in me by the Constitution and laws of the United States of America, do hereby proclaim April 13, 2006, as Thomas Jefferson Day. I encourage all Americans to join in celebrating Thomas Jefferson's achievements, reflecting on his words, and learning more about this extraordinary man's influence on American history and ideals.

IN WITNESS WHEREOF, I have hereunto set my hand this thirteenth day of April, in the year of our Lord two thousand six, and of the Independence of the United States of America the two hundred and thirtieth.

B

[FR Doc. 06-3780

Filed 4-18-06; 8:45 am]

Billing code 3195-01-P